COMMITTEE FOR PURCHASE FROM PEOPLE WHO ARE BLIND OR SEVERELY DISABLED

Procurement List; Proposed Additions and Deletion

AGENCY: Committee for Purchase From People Who Are Blind or Severely Disabled.

ACTION: Proposed additions to and deletion from the Procurement List.

SUMMARY: The Committee is proposing to add products and a service to the Procurement List that will be furnished by nonprofit agencies employing persons who are blind or have other severe disabilities, and deletes a service previously provided by such agency.

DATES: Comments must be received on or before July 6, 2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

Product Name(s)/NSN(s):

Badge Reel, ID, Retractable, Bulldog Clip, Black 8455-00-NIB-0003

Flight Line Lanyard, Cord Style, Breakaway, with Holder, Black, 36″ x .25″/ 8455-00-NIB-0050

Holder, Badge, Vinyl, Re-Sealable, Clear, 33/ 4″ x 25/ 8″ 8455-00-NIB-0051

Mandatory Purchase For: Total Government Requirement

Mandatory Source of Supply: West Texas Lighthouse for the Blind, San Angelo, TX

Contracting Activity: General Services Administration, Fort Worth, TX

Distribution: A-List

Product Name/ NSN(s): Wrench, Combination, Chrome

5120-00-NIB-0120—12 Pt, ¼″

5120-00-NIB-0121—12 Pt, 5/16″

5120-00-NIB-0122—12 Pt, 11/32″

5120-00-NIB-0123—12 Pt, ⅜″

5120-00-NIB-0124—12 Pt, 7/16″

5120-00-NIB-0125—12 Pt, ½″

5120-00-NIB-0126—12 Pt, 9/16″

5120-00-NIB-0127—12 Pt, ⅝″

5120-00-NIB-0128—12 Pt, 11/16″

5120-00-NIB-0129—12 Pt, ¾″

5120-00-NIB-0130—12 Pt, 13/16″

5120-00-NIB-0131—12 Pt, ⅞″

5120-00-NIB-0132—12 Pt, 15/16″

5120-00-NIB-0133—12 Pt, 1″

5120-00-NIB-0139—12pt, ⅜″-1″

5120-00-NIB-0147—12 Pt, 10MM

5120-00-NIB-0148—12 Pt, 11MM

5120-00-NIB-0149—12 Pt, 12MM

5120-00-NIB-0150—12 Pt, 13MM

5120-00-NIB-0151—12 Pt, 14MM

5120-00-NIB-0152—12 Pt, 15MM

5120-00-NIB-0153—12 Pt, 16MM

5120-00-NIB-0154—12 Pt, 17MM

5120-00-NIB-0155—12 Pt, 18MM

5120-00-NIB-0156—12 Pt, 19MM

5120-00-NIB-0157—12pt, 10MM-19MM

Mandatory Purchase For: Broad Government Requirement

Mandatory Source of Supply: Industries for the Blind, Inc., West Allis, WI

Contracting Activity: General Services Administration, Kansas City, MO

Distribution: B-List

Product Name/NSN(s): Set, Bag Clip, 5 pc/MR 843

Mandatory Purchase For: Requirements of military commissaries and exchanges as aggregated by the Defense Commissary Agency

Mandatory Source of Supply: Industries for the Blind, Inc., West Allis, WI

Contracting Activity: Defense Commissary Agency, Fort Lee, VA

Distribution: C-List

Product Name/NSN(s): Cup, Disposable, Paper, Squat-Style, Hot Food, White, 12 oz. 7350-00-641-4518

Mandatory Purchase For: Total Government Requirement

Mandatory Source of Supply: The Lighthouse for the Blind in New Orleans, Inc., New Orleans, LA

Contracting Activity: General Services Administration, Fort Worth, TX

Distribution: A-list

Product Name/NSN(s): Gravy Mix

8940-01-E62-4753—Brown, 8/12 oz. Containers

8940-01-E62-4754—Chicken, 8/12 oz. Containers

8940-01-E62-4755—Brown, Low Sodium, 8/12 oz. Containers

8940-01-E62-4756—Country, 8/20 oz. Containers

8940-01-E62-4757—Turkey, 8/12 oz. Containers

8940-01-E62-4758—Chicken, Low Sodium, 8/12 oz. Containers

Mandatory Purchase For: 100% of the requirement of the Department of Defense

Mandatory Source of Supply: CW Resources, Inc., New Britain, CT

Contracting Activity: Defense Logistics Agency Troop Support, Philadelphia, PA

Distribution: C-List

Product Name/NSN(s): Label, Address, Recycled, Laser and Inkjet, White

7530-00-NIB-1158—1″ x 4″

7530-00-NIB-1159—2″ x 4″

7530-00-NIB-1160—1⅓″ x 4″

Mandatory Purchase For: Total Government Requirement

Mandatory Source of Supply: North Central Sight Services, Inc., Williamsport, PA

Contracting Activity: General Services Administration, New York, NY

Distribution: A-List

Service

Service Type: Healthcare Housekeeping and Related Service

Service Mandatory For: US Army, Reynolds Army Community Hospital & Multiple Medical Treatment Facilities, 4301 Wilson Street, Fort Sill, OK

Mandatory Source of Supply: Professional Contract Services, Inc., Austin, TX

Contracting Activity: Dept of the Army, W40M USA MEDCOM HCAA, Fort Sam Houston, TX

Deletion

The following service is proposed for deletion from the Procurement List:

Service

Service Type: Grounds Maintenance

Service Mandatory For: Fort Ord, CA

Mandatory Source of Supply: Unknown

Contracting Activity: Dept of the Army, W40M Northern Region Contract Office, Fort Belvoir, VA

Barry S. Lineback,
Director, Business Operations.

[FR Doc. 2015-13791 Filed 6-4-15; 8:45 am]

BILLING CODE 6353-01-P